DEPARTMENT OF TRANSPORTATION

Federal Aviation Administration

Public Notice for a Change in Use of Aeronautical Property at Millville Municipal Airport, Millville, New Jersey

AGENCY: Federal Aviation Administration (FAA), DOT.

ACTION: Request for public comment.

SUMMARY: The FAA is requesting public comment on the proposed release of approximately 140 acres of airport property on the south side of Millville Municipal Airport to permit its sale and development of a motorsport park. The airport land was deeded to the City of Millville under a quitclaim conveyance form the United States. It was later transferred to the Delaware River and Bay Authority (DRBA). FAA's action is to release the land from the deed provisions requiring aeronautical use of the property. The DRBA has stated that it has no aeronautical use for the parcel now or in the near future, according to the approved Airport Layout Plan. It will also be released from a reverter clause in the quitclaim deed. The Fair Market Value for the land as determined by appraisals will be paid to the DRBA for the maintenance, operation and capital development of the airport.

The motorsport park will consist of 4 racecourses, 2 paddock areas, 2 motels, 2 hotels, clubhouses, etc.

Any comments the agency receives will be considered as a part of the decision.

DATES: Comments must be received on or before June 1, 2005.

ADDRESSES: Comments on this application may be mailed or delivered to the FAA at the following address: Philip Brito, Manager, FAA New York Airports District Office, 600 Old Country Road, Suite 446, Garden City, New York 11530.

In addition, a copy of any comments submitted to the FAA must be mailed or delivered to Mr. James Johnson, Executive Director, Delaware River and Bridge Authority at the following address: Mr. James Johnson, Executive Director, Delaware River and Bay Authority, P.O. Box 71, New Castle, Delaware 19720.

FOR FURTHER INFORMATION CONTACT: Mr. Philip Brito, Manager, New York Airports District Office, 600 Old Country Road, Suite 446, Garden City, New York 11530; telephone (516) 227-3803; FAX (516) 227-3813; E-mail Philip.brito@faa.gov.

SUPPLEMENTARY INFORMATION: Section 125 of the Wendell H. Ford Aviation Investment and Reform Act for the 21st Century (AIR21) requires the FAA to provide an opportunity for public notice and comment prior to the “waiver” or “modification” of a sponsor's Federal obligation to use certain airport land for aeronautical.

Issued in Garden City, New York.
Philip Brito,
Manager New York Airports District Office, Eastern Region.

[FR Doc. 05-8724 Filed 4-29-05; 8:45 am]

BILLING CODE 4910-13-M